DEPARTMENT OF HOMELAND SECURITY

Federal Emergency Management Agency

[Docket ID FEMA-2025-0002; Internal Agency Docket No. FEMA-B-2531]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The current effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Risk Analysis, Planning & Information Directorate, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Kristin E. Fontenot,
Assistant Administrator, Risk Analysis, Planning & Information Directorate, Federal Emergency Management Agency, Department of Homeland Security.

State and county | Location and case No. | Chief executive officer of community | Community map repository | Online location of letter of map revision | Date of modification | Community No.
Arizona:
Coconino | City of Flagstaff (24-09-0911P). | The Honorable Becky Daggett, Mayor, City of Flagstaff, 211 West Aspen Avenue, Flagstaff, AZ 86001. | City Hall, 211 West Aspen Avenue, Flagstaff, AZ 86001. | https://msc.fema.gov/portal/advanceSearch. | Aug. 13, 2025 | 040020
Maricopa | City of Phoenix (24-09-0695P). | The Honorable Kate Gallego, Mayor, City of Phoenix, 200 West Washington Street, Phoenix, AZ 85003. | City Hall, 200 West Washington Street, Phoenix, AZ 85003. | https://msc.fema.gov/portal/advanceSearch. | Aug. 8, 2025 | 040051
Maricopa | Unincorporated areas of Maricopa County (24-09-0759P). | Jennifer Pokorski, Manager, Maricopa County, 301 West Jefferson Street, Phoenix, AZ 85003. | Maricopa County Flood Control District, 2801 West Durango Street, Phoenix, AZ 85009. | https://msc.fema.gov/portal/advanceSearch. | Aug. 22, 2025 | 040037
Pinal | Unincorporated areas of Pinal County (24-09-1070P). | Stephen Q. Miller, Chair, Pinal County Board of Supervisors, P.O. Box 827, Florence, AZ 85132. | Pinal County Assessor's Office, 31 North Street #E, Florence, AZ 85132. | https://msc.fema.gov/portal/advanceSearch. | Aug. 13, 2025 | 040077
Arkansas: Benton | City of Centerton (24-06-1386P). | The Honorable Bill Edwards, Mayor, City of Centerton, P.O. Box 208, Centerton, AR 72719. | Planning and Development Department, 200 Municipal Drive, Centerton, AR 72719. | https://msc.fema.gov/portal/advanceSearch. | Aug. 25, 2025 | 050399
California:
Sacramento | City of Galt (24-09-0242P). | Chris Erias, Interim City Manager, City of Galt, 380 Civic Drive, Galt, CA 95632. | Public Works Department, 495 Industrial Avenue, Galt, CA 95632. | https://msc.fema.gov/portal/advanceSearch. | Aug. 25, 2025 | 060264
San Diego | City of Carlsbad (24-09-0108P). | The Honorable Keith Blackburn, Mayor, City of Carlsbad, 1200 Carlsbad Village Drive, Carlsbad, CA 92008. | Building and Development Department, 1635 Faraday Avenue, Carlsbad, CA 92008. | https://msc.fema.gov/portal/advanceSearch. | Aug. 11, 2025 | 060285
San Mateo | City of Brisbane (23-09-0435P). | The Honorable Cliff Lentz, Mayor, City of Brisbane, 50 Park Place, Brisbane, CA 94005. | City Hall, 50 Park Place, Brisbane, CA 94005. | https://msc.fema.gov/portal/advanceSearch. | Aug. 14, 2025 | 060314
Solano | City of Vacaville (25-09-0052P). | The Honorable John Carli, Mayor, City of Vacaville, 650 Merchant Street, Vacaville, CA 95688. | City Hall, 650 Merchant Street, Vacaville, CA 95688. | https://msc.fema.gov/portal/advanceSearch. | Aug. 18, 2025 | 060373
Colorado:
Adams | Unincorporated areas of Adams County (24-08-0369P). | Lynn Baca, Chair, Adams County Board of Commissioners, 4430 South Adams County Parkway, Brighton, CO 80601. | Adams County Community and Economic Development, 4430 South Adams County Parkway, 1st Floor, Suite W2000, Brighton, CO 80601. | https://msc.fema.gov/portal/advanceSearch. | Aug. 15, 2025 | 080001
Arapahoe | City of Aurora (24-08-0369P). | The Honorable Mike Coffman, Mayor, City of Aurora, 15151 East Alameda Parkway, Aurora, CO 80012. | Engineering Department, 15151 East Alameda Parkway, Suite 3200, Aurora, CO 80012. | https://msc.fema.gov/portal/advanceSearch. | Aug. 15, 2025 | 080002
Boulder | Unincorporated areas of Boulder County (25-08-0185P). | Marta Loachamin, Chair, Boulder County Board of Commissioners, P.O. Box 471, Boulder, CO 80306. | Boulder County, Community Planning & Permitting Building, 2045 13th Street, Boulder, CO 80302. | https://msc.fema.gov/portal/advanceSearch. | Aug. 14, 2025 | 080023
El Paso | City of Colorado Springs (24-08-0260P). | The Honorable Yemi Mobolade, Mayor, City of Colorado Springs, 30 South Nevada Avenue, Suite 601, Colorado Springs, CO 80903. | Pikes Peak Regional Building Department, 2880 International Circle, Colorado Springs, CO 80910. | https://msc.fema.gov/portal/advanceSearch. | Aug. 21, 2025 | 080060
Pueblo. | City of Pueblo (23-08-0781P). | The Honorable Heather Graham, Mayor, City of Pueblo, 1 City Hall Place, Pueblo, CO 81003. | Public Works Department, 211 East D Street, Pueblo, CO 81003. | https://msc.fema.gov/portal/advanceSearch. | Sep. 1, 2025 | 085077
Pueblo | Unincorporated areas of Pueblo County (23-08-0781P). | Zach Swearingen, Chair, Pueblo County Board of Commissioners, 215 West 10th Street, Pueblo, CO 81003. | Pueblo County, Planning and Development Department, 201 West 8th Street, Suite 110, Pueblo, CO 81003. | https://msc.fema.gov/portal/advanceSearch. | Sep. 1, 2025 | 080147
Delaware: Sussex | Unincorporated areas of Sussex County (25-03-0292P). | Douglas B. Hudson, President, Sussex County Council, P.O. Box 589, Georgetown, DE 19947. | Sussex County Planning and Zoning Department, 2 The Circle, Georgetown, DE 19947. | https://msc.fema.gov/portal/advanceSearch. | Aug. 18, 2025 | 100029
Florida: Monroe | Unincorporated areas of Monroe County (25-04-0148P). | The Honorable Jim Scholl, Mayor, Monroe County Board of Commissioners, 530 Whitehead Street, Key West, FL 33040. | Monroe County Building Department, 2798 Overseas Highway, Suite 300, Marathon, FL 33050. | https://msc.fema.gov/portal/advanceSearch. | Jul. 25, 2025 | 125129
Georgia: Gwinnett | Unincorporated areas of Gwinnett County (24-04-1735P). | Glenn Stephens, Administrator, Gwinnett County, 75 Langley Drive, Lawrenceville, GA 30046. | Gwinnett County Information Technology Services, 446 West Crogan Street, Suite 200, Lawrenceville, GA 30046. | https://msc.fema.gov/portal/advanceSearch. | Sep. 2, 2025 | 130322
Idaho:
Lemhi | City of Salmon (23-10-0430P). | Breann Green, Administrator, City of Salmon, 200 Main Street, Salmon, ID 83467 | Building Department, 200 Fulton Street, Suite 204, Salmon, ID 83467. | https://msc.fema.gov/portal/advanceSearch. | Aug. 29, 2025 | 160093
Lemhi | Unincorporated areas of Lemhi County (23-10-0430P). | Lynn Bowerman, Chair, Lemhi County Board of Commissioners, 206 Courthouse Drive, Salmon, ID 83467. | Lemhi County Building Department, 200 Fulton Street, Suite 204, Salmon, ID 83467. | https://msc.fema.gov/portal/advanceSearch. | Aug. 29, 2025 | 160092
Illinois: DuPage. | Village of Oak Brook (25-05-0048P). | Larry Herman, President, Village of Oak Brook, 1200 Oak Brook Road, Oak Brook, IL 60523. | Village Hall, 1200 Oak Brook Road, Oak Brook, IL 60523. | https://msc.fema.gov/portal/advanceSearch. | Sep. 2, 2025 | 170214
Indiana:
Allen | City of Fort Wayne (25-05-0718X). | The Honorable Sharon Tucker, Mayor, City of Fort Wayne, 200 East Berry Street, Suite 425, Fort Wayne, IN 46802. | City Hall, 200 East Berry Street, Fort Wayne, IN 46802. | https://msc.fema.gov/portal/advanceSearch. | Aug. 28, 2025 | 180003
Portage | City of Portage (24-05-1233P). | The Honorable Austin Bonta, Mayor, City of Portage, 6070 Central Avenue, Portage, IN 46368. | City Hall, 6070 Central Avenue, Portage, IN 46368. | https://msc.fema.gov/portal/advanceSearch. | Jul. 25, 2025 | 180202
Iowa: Polk. | City of Urbandale (25-07-0080P). | The Honorable Bob Andeweg, Mayor, City of Urbandale, 3600 86th Street, Urbandale, IA 50322. | City Hall, 3600 86th Street, Urbandale, IA 50322. | https://msc.fema.gov/portal/advanceSearch. | Aug. 18, 2025 | 190230
Kansas:
Cloud | City of Concordia (24-07-0527P). | Amy Lange, Manager, City of Concordia, P.O. Box 603, Concordia, KS 66901. | City Hall, 701 Washington Street, Concordia, KS 66901. | https://msc.fema.gov/portal/advanceSearch. | Aug. 22, 2025 | 200060
Cloud. | Unincorporated areas of Cloud County (24-07-0527P). | Michael Cleveland, Chair, Cloud County Commission, 811 Washington Street, Concordia, KS 66901. | Cloud County Courthouse, 811 Washington Street, Concordia, KS 66901. | https://msc.fema.gov/portal/advanceSearch. | Aug. 22, 2025 | 40058
Nevada: Clark | City of Boulder City (24-09-0732P). | The Honorable Joe Hardy, Mayor, City of Boulder City, 401 California Avenue, Boulder City, NV 89005. | City Hall, 401 California Avenue, Boulder City, NV 89005. | https://msc.fema.gov/portal/advanceSearch. | Aug. 14, 2025 | 320004
North Carolina:
Alleghany | Town of Sparta (24-04-4324P). | The Honorable Mike Parlier, Mayor Pro Tem, Town of Sparta, P.O. Box 99, Sparta, NC 28675. | Planning Department, 304 South Main Street, Sparta, NC 28675. | https://msc.fema.gov/portal/advanceSearch. | Jul. 17, 2025 | 370005
Guilford | City of Greensboro (24-04-2368P). | The Honorable Nancy Vaughan, Mayor, City of Greensboro, P.O. Box 3136, Greensboro, NC 27402. | Stormwater Planning Division, 2602 South Elm, Eugene Street, Greensboro, NC 27402. | https://msc.fema.gov/portal/advanceSearch. | Aug. 25, 2025 | 375351
Guilford | Unincorporated areas of Guilford County (24-04-2368P). | Melvin Alston, Chair, Guilford County Board of Commissioners, 301 West Market Street, Greensboro, NC 27401. | Guilford County Planning Department, 400 West Market Street, Greensboro, NC 27402. | https://msc.fema.gov/portal/advanceSearch. | Aug. 25, 2025 | 370111
Pennsylvania:
Chester | Township of Tredyffrin (24-03-1011P). | William F. Martin, Manager, Township of Tredyffrin, 1100 DuPortail Road, Berwyn, PA 19312. | Planning and Zoning Department, 1100 DuPortail Road, Berwyn, PA 19312. | https://msc.fema.gov/portal/advanceSearch. | Aug. 21, 2025 | 420291
Montgomery | Township of Whitemarsh (24-03-0882P). | Craig McAnally, Manager, Township of Whitemarsh, 616 Germantown Pike, Lafayette Hill, PA 19444. | Township Hall, 616 Germantown Pike, Lafayette Hill, PA 19444. | https://msc.fema.gov/portal/advanceSearch. | Aug. 21, 2025 | 420712
Tennessee: Fayette | City of Piperton (24-04-2852P). | The Honorable Henry Coats, Mayor, City of Piperton, 3300 Highway 196 South, Piperton, TN 38017. | City Hall, 3575 Highway 196, Piperton, TN 38017. | https://msc.fema.gov/portal/advanceSearch. | Jul. 31, 2025 | 470401
Texas:
Comal | City of New Braunfels (24-06-0841P). | The Honorable Neal Linnartz, Mayor, City of New Braunfels, 550 Landa Street, New Braunfels, TX, 78130. | City Hall, 550 Landa Street, New Braunfels, TX, 78130. | https://msc.fema.gov/portal/advanceSearch. | Aug. 14, 2025 | 485493
Dallas | City of Mesquite (25-06-0337P). | The Honorable Daniel Alemán, Jr., Mayor, City of Mesquite, P.O. Box 850137, Mesquite, TX 75185. | City Hall, 757 North Galloway Avenue, Mesquite, TX 75149. | https://msc.fema.gov/portal/advanceSearch. | Aug. 25, 2025 | 485490
Medina | Unincorporated areas of Medina County (24-06-0782P). | The Honorable Keith Lutz, Medina County Judge, 1300 Avenue M, Room 250, Hondo, TX 78861. | Old Medina County Jail, 1502 Avenue K, 2nd Floor, Hondo, TX 78861. | https://msc.fema.gov/portal/advanceSearch. | Aug. 22, 2025 | 480472
Wisconsin:
Kenosha | City of Kenosha (23-05-0545P). | The Honorable David Bogdala, Mayor, City of Kenosha, 625 52nd Street, Room 300, Kenosha, WI 53140. | City Hall, 625 52nd Street, Room 308, Kenosha, WI 53140. | https://msc.fema.gov/portal/advanceSearch. | Jul. 25, 2025 | 550209
Kenosha | Unincorporated areas of Kenosha County (23-05-0545P). | Samantha Kerkman, Kenosha County Executive, 1010 56th Street, Kenosha, WI 53140. | Kenosha County Center, 19600 75th Street, Bristol, WI 53104. | https://msc.fema.gov/portal/advanceSearch. | Jul. 25, 2025 | 550523
Kenosha | Village of Pleasant Prairie (23-05-0545P). | John P. Steinbrink, President, Village of Pleasant Prairie, 9915 39th Avenue, Pleasant Prairie, WI 53158. | Village Hall, 9915 39th Avenue, Pleasant Prairie, WI 53158. | https://msc.fema.gov/portal/advanceSearch. | Jul. 25, 2025 | 550613
Kenosha | Village of Somers (23-05-0545P). | George Stoner, President, Village of Somers, P.O. Box 197, Somers, WI 53171. | Village Hall, 7511 12th Street, Somers, WI 53144. | https://msc.fema.gov/portal/advanceSearch. | Jul. 25, 2025 | 550406

[FR Doc. 2025-10625 Filed 6-10-25; 8:45 am]

BILLING CODE 9110-12-P